DEPARTMENT OF THE INTERIOR

National Park Service

Notice of Intent to Repatriate Cultural Items: Field Museum of Natural History, Chicago, IL

AGENCY: National Park Service, Interior.

ACTION: Notice.

Notice is here given in accordance with the Native American Graves Protection and Repatriation Act (NAGPRA), 25 U.S.C. 3005, of the intent to repatriate cultural items in the possession of the Field Museum of Natural History (Field Museum), Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The 12 cultural items are 1 stone pestle, 1 camas digging stick handle, 2 bone awls, 2 triangular points, 4 arrow points, 1 stone point or knife, and 1 obsidian point or knife. In 1901, Dr. Merton Miller removed the 12 cultural items from locations along the Columbia Rim or the banks of the Columbia River, near Umatilla, OR, for the Field Museum of Natural History. The items were accessioned into the collections of the Field Museum of Natural History that same year.

According to Field Museum of Natural History records, the stone pestle was a surface find, collected along the Columbia River at Umatilla. The stone pestle (Field Museum catalog number 69202) consists of a stone nipple top maul with red ocher on the surface, and measures 16.3 cm x 5.8 cm.

According to museum records, the camas digging stick handle was removed from a Native American grave located along the Columbia Rim at Umatilla. The camas digging stick handle (Field Museum catalog number 69267) is most likely made from elk antler, and measures 26.6 cm x 4.3 cm.

According to museum records, the two triangular flint points, four stone arrow points, two bone awls, stone point or knife, and obsidian point or knife were each removed from Native American graves located along the Columbia River at Umatilla. None of the associated human remains are in the control or possession of the Field Museum of Natural History. The two triangular points are made of flint (Field Museum catalog number 69273.1 and 69273.2). The first point measures 5.3 cm x 3.5 cm and the second point measures 3.3 cm x 2.6 cm. The four arrow points (Field Museum catalog number 69274) are made of stone, two are stemmed and the remaining two have side notching. The stemmed arrow points measure 2.4 cm x 1.3 cm and 2.4 cm x 1.6 cm. The side notched arrow points measure 2.5 cm x 1.4 cm and 2.7 cm x 1.2 cm. One bone awl (Field Museum catalog number 69275) is bleached and has a broken tip, and measures 14.8 cm x 2.5 cm. The second awl (Field Museum catalog number 69277) is made of highly polished bone, and measures 13.1 cm x .4 cm. The stone point or knife (Field Museum catalog number 69278) has slightly rounded edges, and measures 8.8 cm x 3.4 cm. The obsidian point or knife (Field Museum catalog number 69279) has slightly curving sides and a notched base, and measures 7.1 cm x 2.6 cm.

The cultural affiliation of the cultural items is to the Umatilla, as indicated through museum records, scholarly publications, and consultation information provided by representatives of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-federally recognized Indian group.

Officials of the Field Museum of Natural History have determined that, pursuant to 25 U.S.C. 3001(3)(B), the 12 cultural items described above are reasonably believed to have been placed with or near individual human remains at the time of death or later as part of a death rite or ceremony and are believed, by a preponderance of the evidence, to have been removed from a specific burial site of a Native American individual. Officials of the Field Museum of Natural History also have determined that, pursuant to 25 U.S.C. 3001(2), there is a relationship of shared group identity that can be reasonably traced between the unassociated funerary objects and the Confederated Tribes of the Umatilla Indian Reservation, Oregon.

Representatives of any other Indian tribe that believes itself to be culturally affiliated with the unassociated funerary objects should contact Helen Robbins, Repatriation Director, Field Museum of Natural History, 1400 S. Lake Shore Dr., Chicago, IL 60605, telephone (312) 665-7317, before September 23, 2010. Repatriation of the unassociated funerary objects to the Confederated Tribes of the Umatilla Indian Reservation, Oregon, may proceed after that date if no additional claimants come forward.

The Field Museum is responsible for notifying the Confederated Tribes of the Colville Reservation, Washington; Confederated Tribes of the Umatilla Indian Reservation, Oregon; Confederated Tribes of the Warm Springs Reservation of Oregon; Confederated Tribes and Bands of the Yakama Nation, Washington; and the Nez Perce Tribe, Idaho, that this notice has been published.

Dated: August 18, 2010.
David Tarler,
Acting Manager, National NAGPRA Program.

[FR Doc. 2010-20951 Filed 8-23-10; 8:45 am]

BILLING CODE 4312-50-S